POSTAL SERVICE

39 CFR Part 111

Pricing and Mailing Standards Changes for Shipping Services

AGENCY: Postal Service™.

ACTION: Final rule.

SUMMARY: The Postal Service is revising Mailing Standards of the United States Postal Service, Domestic Mail Manual (DMM®), to reflect changes to prices and mailing standards for the following Shipping Services:

• Express Mail®

• Priority Mail®

• Parcel Select®

• Parcel Return Service

DATES: Effective Date: January 4, 2010.

FOR FURTHER INFORMATION CONTACT: John Gullo (202) 268-8057, Carol A. Lunkins (202) 268-7262, or Mary Collins (202) 268-5440.

SUPPLEMENTARY INFORMATION: On September 22, 2009, the Governors of the Postal Service established new prices and product features for Shipping Services. This final rule describes price and product changes and the corresponding mailing standards to implement them.

Express Mail

On average, Express Mail prices increase 4.5 percent as follows:

• Retail prices—4.5 percent

• Commercial base prices—4.5 percent

• Commercial plus prices—4.4 percent

Priority Mail

On average, Priority Mail prices increase 3.3 percent as follows:

• Retail prices—3.9 percent

• Commercial base prices—2.9 percent

• Commercial plus prices—0.9 percent

The Priority Mail flat-rate envelope and small flat-rate box are now separately priced as follows:

• Retail:

Flat-Rate Envelope—$4.90

Small Flat-Rate Box—$4.95

• Commercial base:

Flat-Rate Envelope—$4.75

Small Flat-Rate Box—$4.85

• Commercial plus:

Flat-Rate Envelope—$4.70

Flat-Rate Padded Envelope—$4.95

Small Flat-Rate Box—$4.80

The one-pound price for Priority Mail is now priced according to weight and zone based on seven zone separations as follows: (Local, 1, 2), (3), (4), (5), (6), (7), and (8).

Commercial Plus Prices

New and convenient shipping options for Priority Mail commercial plus mailers are introduced as follows:

• New Priority Mail 0.5-Pound Price for items weighing up to 0.5 pound.

• New Flat-Rate Padded Envelope, which is priced slightly higher than the conventional flat-rate envelope.

• New Commercial Plus Cubic Prices for flats and parcels.

Commercial Plus Cubic Prices

To qualify for commercial plus cubic prices, each mailpiece must measure .50 cubic foot or less and weigh 20 pounds or less. Mailings must qualify for commercial base prices with an annual total volume of 250,000 pieces or more or mailers must have a customer commitment agreement with the USPS. Prices are available to:

• Registered end-users of USPS-approved PC Postage® products.

• Customers who pay postage with permit imprints and use the Electronic Verification System (e-VS®) program or submit an electronic postage statement and a computerized manifest. Mailings must consist of at least 200 pieces or 50 pounds of mail; mailpieces are not required to be identical in weight.

Markings

The appropriate commercial plus cubic price markings are required.

Prices

There are five price tiers, as follows:

■ Tier 1—mailpieces measuring up to .10 cubic foot

■ Tier 2—mailpieces measuring more than .10 up to .20 cubic foot

■ Tier 3—mailpieces measuring more than .20 up to .30 cubic foot

■ Tier 4—mailpieces measuring more than .30 up to .40 cubic foot

■ Tier 5—mailpieces measuring more than .40 up to .50 cubic foot

Each tier is priced according to the tier level (cubic foot) and zone based on seven zone separations: (Local, 1, 2), (3), (4), (5), (6), (7), and (8).

Parcel Select

On average, Parcel Select prices increase 4.9 percent for destination entry only as follows:

• Destination Delivery Unit (DDU)—3.9 percent

• Destination Sectional Center Facility (DSCF)—6.9 percent

• Destination Bulk Mail Center (DBMC)—6.9 percent

There is no price increase for the following Parcel Select price categories:

• Origin Bulk Mail Center (OBMC)

• Presorted BMC

• Barcoded Nonpresorted

Parcel Select mailers who pay postage using USPS-approved PC Postage and request the barcoded nonpresorted price will not have to meet the minimum volume requirement of 50 mailpieces. However, barcode requirements apply. When requesting destination entry and presorted prices, the 50-piece minimum volume requirement applies for mailers using PC Postage.

Parcel Select Loyalty and Growth Rebates will be eliminated effective May 31, 2010.

Parcel Return Service

On average, Parcel Return Service prices increase 3.0 percent as follows:

• Return Delivery Unit (RDU)—2.1 percent

• Return Bulk Mail Center (RBMC)—3.3 percent

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

100 Retail Letters, Cards, Flats, and Parcels

* * * * *

110 Express Mail

113 Prices and Eligibility

1.0 Express Mail Prices and Fees

* * * * *

1.3 Prices

[Revise 1.3 by deleting Exhibit 1.3 in its entirety, add a new paragraph, and a link to the Price List as follows:]

See Notice 123—Price List for applicable Express Mail retail prices. Commercial base prices are available when postage is paid through Click-N-Ship service at usps.com or by registered end-users of PC Postage using a qualifying shipping label managed by the PC Postage system.

1.4 Flat-Rate Envelope

[Revise the text of 1.4 as follows:]

Material mailed in the USPS-provided Express Mail flat-rate envelope is charged a flat rate, regardless of the actual weight (up to 70 pounds) of the mailpiece or domestic destination. Only USPS-produced flat-rate envelopes are eligible for the flat-rate envelope price. Custom Designed items are not eligible for flat-rate pricing. When sealing a flat-rate envelope, the container flaps must be able to close within the normal folds. Tape may be applied to the flaps and seams to reinforce the container provided the design of the container is not enlarged by opening the sides, and the container is not reconstructed in any way.

1.5 Sunday and Holiday Premium

[Revise the first sentence of 1.5 as follows:]

Delivery guaranteed for a Sunday or holiday is charged a premium fee (see Notice 123—Price List), unless paying via an Express Mail Manifesting Agreement. * * *

1.6 Pickup on Demand

1.6.1 Pickup on Demand Fee

[Revise 1.6.1 as follows:]

See Notice 123—Price List for fee per occurrence. This service may be combined with Priority Mail, Package Services, and international mail pickups (see 507.6.0).

* * * * *

120 Priority Mail

123 Prices and Eligibility

1.0 Priority Mail Prices and Fees

1.1 Price Application

[Revise paragraph of 1.1 as follows:]

Except under 1.3, 1.4, and 1.5, Priority Mail retail prices are charged per pound; any fraction of a pound is rounded up to the next whole pound. For example, if a piece weighs 1.2 pounds, the weight (postage) increment is 2 pounds. The minimum postage amount per addressed piece is the 1-pound price. Priority Mail retail prices are based on weight and zone except for flat-rate products. Other charges may apply.

1.2 Prices

[Revise 1.2 by deleting Exhibit 1.2 in its entirety and adding a link to the Price List as follows:]

See Notice 123—Price List for applicable Priority Mail retail prices.

* * * * *

1.5 Flat-Rate Envelope and Boxes

* * * * *

1.5.1 Flat-Rate Envelope—Price and Eligibility

[Revise text of the first sentence of 1.5.1 as follows:]

Each USPS-produced Priority Mail flat-rate envelope is charged a flat rate regardless of the actual weight (up to 70 pounds) of the mailpiece or domestic destination. * * *

1.5.2 Flat-Rate Boxes—Price and Eligibility

[Revise the paragraph 1.5.2 and delete current items “a” through “d” and replace, as follows:]

For shipping convenience, there are multiple Priority Mail flat-rate boxes:

a. Small flat-rate box to domestic, APO/FPO, and DPO destinations.

b. Regular/medium flat-rate boxes (FRB-1) or (FRB-2) to domestic, APO/FPO and DPO destinations.

c. Large flat-rate box or “special version of this box” to APO/FPO and DPO destinations.

d. Large flat-rate box to domestic destinations.

The large flat-rate box to APO/FPO and DPO destinations or “special version of this box” is priced less than the conventional domestic large flat-rate box. Items sent to APO/FPO and DPO destination addresses may be shipped in the Priority Mail large flat-rate box or in a special version of the box identified with the additional logo: “Americasupportsyou.mil.” If the special version of the APO/FPO flat-rate box is used for non-APO/FPO and DPO destination addresses, the domestic or international large flat-rate box prices will apply. Only USPS-produced flat-rate boxes are eligible for the flat-rate box prices. Each USPS-produced Priority Mail flat-rate box is charged a flat rate regardless of the actual weight (up to 70 pounds) of the mailpiece or domestic destination. See Notice 123—Price List for applicable prices.

1.6 Prices for Keys and Identification Devices

[Revise 1.6 by deleting table and footnotes and adding a sentence as follows:]

Keys and identification devices are charged an associated fee plus the applicable First-Class Mail or Priority Mail price. See Notice 123—Price List.

* * * * *

1.8 Pickup on Demand Fee

The Pickup on Demand fee is charged per occurrence regardless of the number of packages and may be combined with Express Mail, Package Services, and international mail pickups (see 507.6.0). See Notice 123—Price List for applicable prices.

* * * * *

400 Commercial Parcels

* * * * *

402 Elements on the Face of a Mailpiece

* * * * *

2.0 Placement and Content of Markings

[Renumber current 2.1 through 2.5 as 2.3 through 2.8 and add new 2.2 and 2.3 as follows:]

* * * * *

2.2 Priority Mail Commercial Plus Cubic Markings—PC Postage Indicia

Priority Mail pieces claiming the commercial plus cubic price must bear the applicable marking that reflects the respective price tier printed on the piece or produced as part of the meter imprint or PC Postage indicia. The cubic tiers are determined by the cubic measurement of each mailpiece up to the defined threshold, (i.e. measurements from .01 up to .10—”Cubic .10” and from .101 up to .20—“Cubic .20”). Place the marking directly above, directly below, or to the left of the postage. Approved markings are as follows:

a. “Cubic .10”

b. “Cubic .20”

c. “Cubic .30”

d. “Cubic .40”

e. “Cubic .50”

2.3 Priority Mail Commercial Plus Cubic Markings—Permit Imprint

Priority Mail permit imprint pieces claiming the commercial plus cubic price must bear the applicable marking that reflects the respective price tier, printed on the piece or produced as part of the permit imprint indicia. Place the marking directly above, directly below, or to the left of the postage. Approved markings are as follows:

a. Cubic

b. CUBIC

* * * * *

410 Express Mail

413 Prices and Eligibility

1.0 Prices and Fees

* * * * *

1.5 Flat-Rate Envelope

[Revise 1.5 by removing prices and providing link to flat-rate envelope commercial base and plus prices in price list as follows:]

Material mailed in the USPS-provided Express Mail flat-rate envelope is charged a flat price, regardless of the actual weight (up to 70 pounds) of the piece or its domestic destination. Only USPS-produced flat-rate envelopes are eligible for the flat-rate envelope price. Custom Designed items are not eligible for flat-rate pricing. When sealing a flat-rate envelope, the container flaps must be able to close within the normal folds. Tape may be applied to the flaps and seams to reinforce the container provided the design of the container is not enlarged by opening the sides, and the container is not reconstructed in any way. See Notice 123—Price List.

1.6 Sunday and Holiday Premium

[Revise 1.6 by removing prices and providing link to Sunday and holiday premium prices in price list as follows:]

When delivery is guaranteed for a Sunday or holiday, there is a premium (see Notice 123—Price List), unless paying via an Express Mail Manifesting Agreement. Customers not desiring delivery on a Sunday or a holiday may avoid the premium by opting for guaranteed delivery on the subsequent delivery day.

[Delete 1.7.1 and 1.7.2 in their entirety and revise 1.7 as follows:]

1.7 Pickup on Demand

The Pickup on Demand fee is charged every time pickup service is provided, regardless of the number of pieces picked up. This service may be combined with Priority Mail and Package Services pickups (see 507.6.0). See Notice 123—Price List.

[Delete 1.8.1 and 1.8.2 in their entirety and revise 1.8 as follows:]

1.8 Delivery Stop

Express Mail Custom Designed items are subject to an additional fee for each delivery stop for items presented for delivery to addressee. See the Notice 123—Price List.

* * * * *

420 Priority Mail

423 Prices and Eligibility

1.0 Prices and Fees

1.1 Price Application

[Revise the paragraph of 1.1 as follows:]

The following price applications apply:

a. Except commercial plus items weighing up to 0.5 pound (see 1.1.c) and commercial plus cubic items (see 1.1d), Priority Mail mailpieces are charged per pound; any fraction of a pound is rounded up to the next whole pound. For example, if a piece weighs 1.2 pounds, the weight (postage) increment is 2 pounds.

b. Flat-rate prices are not based on weight and zone but are charged a flat rate regardless of actual weight (up to 70 pounds) of the mailpiece and domestic destination.

c. The minimum postage amount per addressed piece is the 1-pound price except commercial plus items weighing up to 0.5 pound. Charge the 0.5-pound price for commercial plus items up to 0.5 pound. Items over 0.5 pound are rounded up to the next whole pound. For example, if a commercial plus piece weighs 0.25 pound, the weight (postage) increment is 0.5 pound; if a piece weighs 0.75 pound, the weight (postage) increment is 1 pound; if a piece weighs 1.2 pounds, the weight (postage) increment is 2 pounds.

d. Commercial cubic prices are not based on weight but are charged per cubic measurement of the mailpiece and zone.

e. Priority Mail items mailed under a specific customer agreement are charged according to the individual agreement.

* * * * *

1.4 Commercial Plus Cubic

1.4.1 Existing Priority Mail Customers

Commercial plus cubic prices are available to existing Priority Mail customers who meet the following requirements:

a. Registered end-users of USPS-approved PC Postage products who qualify for commercial base prices and whose account volumes exceed 250,000 pieces in the previous calendar year or who have a customer commitment agreement with the USPS (see 1.3.2).

b. Permit imprint customers who qualify for commercial base prices and whose account volumes exceed 250,000 pieces in the previous calendar year or who have a customer commitment agreement with the USPS (see 1.3.2). Customers are required to use the Electronic Verification System (eVS) program or submit an electronic postage statement with a computerized manifest under 705.2.0. Mailings must contain at least 200 pieces or 50 pounds of mail. Mailpieces are not required to be identical in weight.

c. Each mailpiece must measure .50 cubic foot or less, weigh 20 pounds or less, and not exceed maximum girth and length standards for parcels.

d. Mailings containing multiple price tiers may be combined in the same container.

1.4.2 Commercial Plus Cubic Tiers

For prices, see the Notice 123—Price List. Cubic prices consist of the following five tiers:

a. Tier 1—mailpieces measuring up to .10 cubic foot

b. Tier 2—mailpieces measuring more than .10 up to .20 cubic foot

c. Tier 3—mailpieces measuring more than .20 up to .30 cubic foot

d. Tier 4—mailpieces measuring more than .30 up to .40 cubic foot

e. Tier 5—mailpieces measuring more than .40 up to .50 cubic foot

1.4.3 Determining Cubic Tier Measurements for Rectangular and Nonrectangular Parcels

Follow these steps to determine the cubic tier measurement for rectangular and nonrectangular parcels:

a. Measure the length, width, and height in inches. Round off (see 604.7.0) each measurement to the nearest whole inch.

b. Multiply the length by the width by the height and divide by 1728. [Example: 6 × 6 × 6 = 216 divided by 1728 = .125; this piece exceeds .10 (Tier 1 threshold). It will be calculated at Tier 2 prices—.101 to .20.]

1.4.4 New Priority Mail Customers

Commercial plus cubic prices are available for new Priority Mail customers who have a customer commitment agreement with the USPS. Shippers must contact their account manager or the manager, Sales and Communication, Expedited Shipping (see 608.8.0 for address) for additional information.

* * * * *

1.7 Flat-Rate Envelopes and Boxes

1.7.1 Flat-Rate Envelopes—Price and Eligibility

[Revise renumbered 1.7.1 by removing prices and modifying the paragraph as follows:]

There are two types of USPS-produced Priority Mail flat-rate envelopes: A paper envelope and a padded envelope (for commercial plus only). Each type of USPS-produced Priority Mail flat-rate envelope is priced at a flat rate regardless of the actual weight (up to 70 pounds) of the mailpiece or domestic destination. See the Notice 123—Price List for applicable prices.

1.7.2 Flat-Rate Boxes—Price and Eligibility

[Revise the text of 1.7.2, as follows:]

For shipping convenience, there are multiple Priority Mail flat-rate boxes:

a. Small flat-rate box to domestic, APO/FPO, and DPO destinations.

b. Regular/medium flat-rate boxes (FRB-1) or (FRB-2) to domestic, APO/FPO and DPO destinations.

c. Large flat-rate box or “special version of this box” to APO/FPO and DPO destinations.

d. Large flat-rate box to domestic destinations.

The large flat-rate box to APO/FPO and DPO destinations or “special version of this box” is priced less than the conventional domestic large flat-rate box. Items sent to APO/FPO and DPO destination addresses may be shipped in the Priority Mail large flat-rate box or in a special version of the box identified with the additional logo: “Americasupportsyou.mil.” If the special version of the APO/FPO flat-rate box is used for non-APO/FPO and DPO destination addresses, the domestic or international large flat-rate box prices will apply. Only USPS-produced flat-rate boxes are eligible for the flat-rate box prices. Each USPS-produced Priority Mail flat-rate box is charged a flat rate regardless of the actual weight (up to 70 pounds) of the mailpiece or domestic destination. See Notice 123—Price List for applicable prices.

1.8 Pickup on Demand Fee

[Revise renumbered 1.8 by removing price and providing link to price list as follows:]

The Pickup on Demand fee is charged per occurrence. This service may be combined with Express Mail, Package Services, and international mail pickups (see 507.6.0). See Notice 123—Price List.

* * * * *

425 Mail Preparation

* * * * *

2.0 Marking

* * * * *

[Add new 2.3 and 2.4 as follows:]

2.3 Price Marking for Commercial Plus Cubic Prices—PC Postage

Priority Mail pieces claiming the commercial plus cubic price must bear the appropriate marking that reflects the respective price tier printed on the piece or produced as part of the meter imprint or PC Postage indicia. The ranges are determined by pieces measuring up to the threshold, i.e. pieces from .01 up to .10, from .101 up to .20, etc. Place the marking directly above, directly below, or to the left of the postage. Markings are as follows:

a. “Cubic .10”

b. “Cubic .20”

c. “Cubic .30”

d. “Cubic .40”

e. “Cubic .50”

2.4 Price Marking for Commercial Plus Cubic Prices—Permit Imprint Indicia

Priority Mail pieces claiming the commercial plus cubic price must bear the appropriate marking that reflects the respective price tier, printed on the piece or produced as part of the permit imprint indicia. Place the marking directly above, directly below, or to the left of the postage. Markings are as follows:

a. Cubic

b. CUBIC

* * * * *

450 Parcel Select

453 Prices and Eligibility

1.0 Prices and Fees

* * * * *

1.3 Annual Mailing Fee

[Revise the paragraph of 1.3 and provide link to price list, as follows:]

An annual mailing fee is required for Parcel Select destination entry mailings and must be paid once each 12-month period. This fee must be paid at each Post Office of mailing by or for any mailer who enters mailings at the destination entry level. All destination entry prices (DBMC, DSCF, and DDU) are covered under the payment of a single annual fee per office of mailing. During the last 60 days of the current service period, advance payment of the annual mailing fee may be remitted for the subsequent 12-month period only. The established annual mailing fee in effect at the time of remittance will be assessed. See Notice 123—Price List for applicable annual mailing fees.

* * * * *

2.0 Content Standards

2.1 Definition of Parcel Select

[Revise paragraph of 2.1 as follows:]

Parcel Select is a Shipping Services ground product using permit imprint or metered postage when mailing 50 or more packages. When postage is paid using USPS-approved PC Postage in conjunction with barcoded nonpresorted mailings there is no minimum volume.

* * * * *

3.3 Parcel Select Barcoded Nonpresort Price Eligibility

[Revise 3.3 by revising paragraph and by adding new items “a, b, and c” as follows:]

Parcel Select Barcoded Nonpresort per piece prices apply to Parcel Select machinable parcels that are barcoded. See Exhibit 3.3, BMC/ASF Service Areas. The barcoded nonpresort price requires a minimum volume of 50 Parcel Select pieces, except when postage is paid using USPS-approved PC Postage which doesn't require a minimum volume of mailpieces. Machinable parcels (401.1.5) must bear a GS1-128 barcode under 708.5.0 for the ZIP Code of the delivery address under any of the following conditions:

a. The mailing contains a minimum volume of 50 or more pieces.

b. The mailing is prepared as part of a combined mailing of 300 or more pieces under 705.20.0 in other than 5-digit containers.

c. The postage is paid using USPS-approved PC Postage and the mailing is less than 50 pieces.

* * * * *

455 Mail Preparation

* * * * *

6.0 Preparing Barcoded Machinable Parcels

* * * * *

6.2 Basic Standards

Pieces must meet the applicable standards in 4.0 and the following criteria:

[Revise item “a” of 6.2 as follows:]

a. Must be part of a mailing of at least 50 Parcel Select pieces, except barcoded nonpresorted parcels when postage is paid using USPS-approved PC Postage which does not require a minimum volume.

* * * * *

500 Additional Services

* * * * *

507 Mailer Services

* * * * *

3.0 Premium Forwarding Service

3.1 Prices and Fees

3.1.1 Application Fee

[Revise 3.1.1 by removing price and providing link to price list, as follows:]

Customers must pay a nonrefundable application fee. See Notice 123—Price List for applicable fee.

3.1.2 Weekly Reshipment Charge

[Revise 3.1.2 by removing price, providing a link to the price list, and modifying the last sentence, as follows:]

There is a reshipment charge for each Priority Mail shipment to one temporary address for each week of service requested. Upon submission of the application, the amount due for the total weeks requested must be paid in full. See Notice 123—Price List for the applicable fee.

* * * * *

9.0 Business Reply Mail (BRM)

9.1 Business Reply Mail (BRM) Prices and Fees

9.1.1 Basic BRM

[Revise 9.1.1, as follows:]

For basic BRM, an annual permit fee is required. A per-piece fee is applied to each mailpiece in addition to the applicable First-Class Mail or Priority Mail postage. See Notice 123—Price List for applicable prices and fees.

9.1.2 High-Volume BRM

[Revise 9.1.2, as follows:]

For high-volume BRM, an annual permit fee and annual account maintenance fee are required. A per-piece fee is applied to each mailpiece in addition to the applicable First-Class Mail or Priority Mail postage. See Notice 123—Price List for applicable prices and fees.

9.1.3 Basic Qualified BRM

[Revise 9.1.3, as follows:]

For basic qualified BRM, an annual permit fee and annual account maintenance fee are required. A per-piece fee is applied to each mailpiece in addition to the applicable First-Class Mail QBRM postage. See Notice 123—Price List for applicable prices and fees.

9.1.4 High-Volume Qualified BRM

[Revise 9.1.4, as follows:]

For high-volume qualified BRM, an annual permit fee, an annual account maintenance fee, and a quarterly fee are required. A per-piece fee is applied to each mailpiece in addition to the applicable First-Class Mail QBRM postage. See Notice 123—Price List for applicable prices and fees.

9.1.5 Bulk Weight Averaged Nonletter-Size BRM

[Revise 9.1.5, as follows:]

For bulk weight average nonletter-size BRM, an annual permit fee, an annual account maintenance fee (for advanced deposit accounts), and a monthly fee are required. A per-piece fee is applied to each mailpiece in addition to the applicable First-Class Mail or Priority Mail postage. See Notice 123—Price List for applicable prices and fees.

9.2 Qualified Business Reply Mail (QBRM) Prices

9.2.1 Cards

[Revise 9.2.1, as follows:]

See Notice 123—Price List for QBRM card prices and fees.

9.2.2 Letters

[Revise 9.2.2 (delete chart), as follows:]

See Notice 123—Price List for QBRM letter prices and fees.

* * * * *

11.0 Merchandise Return Service

11.1 Prices and Fees

11.1.1 Permit Fee

[Delete the first sentence and revise the second sentence of 11.1.1 by removing prices and providing link to price as follows:]

An annual permit fee must be paid once each 12-month period at each Post Office where a Merchandise Return Service (MRS) permit is held. See Notice 123—Price List for the applicable fee. * * *

11.1.2 Advance Deposit Account and Account Maintenance Fee

[Revise the first sentence of 11.1.2 by removing prices and providing link to price as follows:]

There is an annual account maintenance fee for the advance deposit account (see Notice 123—Price List). * * *

* * * * *

12.0 Bulk Parcel Return Service

12.1 Bulk Parcel Return Service (BPRS) Fees

12.1.1 Permit Fee

[Revise text of 12.1.1 by removing prices and providing link to price as follows:]

An annual permit fee is required. See Notice 123—Price List for applicable fee.

12.1.2 Account Maintenance Fee

[Revise text of 12.1.2 by removing prices and providing link to price as follows:]

An annual account maintenance fee is required. See Notice 123—Price List for applicable fee.

12.1.3 Per Piece Charge

[Revise text of 12.1.3 by removing prices and providing link to price as follows:]

There is a per piece charge for each mailpiece returned, regardless of weight. See Notice 123—Price List for applicable fee.

* * * * *

13.0 Parcel Return Service

* * * * *

13.2 Postage and Fees

* * * * *

13.2.2 Permit Fee

[Revise 13.2.2 by removing price and providing link to price list, as follows:]

The participant must pay an annual permit fee at the Post Office where the PRS permit is held. See Notice 123—Price List for applicable fee.

13.2.3 Advance Deposit Account and Annual Account Maintenance Fee

[Revise 13.2.3 by removing price and providing link to price list, as follows:]

The participant must pay postage through an advance deposit account and pay an annual account maintenance fee. See Notice 123—Price List for applicable fee.

* * * * *

700 Special Standards

703 Nonprofit Standard Mail and Other Unique Eligibility

* * * * *

2.0 Overseas Military Mail

2.1 Basic Standards

* * * * *

2.1.2 APO/FPO Priority Mail Flat-Rate Boxes

[Revise the text of 2.1.2, as follows:]

For shipping convenience, there are multiple Priority Mail flat-rate boxes:

a. Small flat-rate box to domestic, APO/FPO, and DPO destinations.

b. Regular/medium flat-rate boxes (FRB-1) or (FRB-2) to domestic, APO/FPO and DPO destinations.

c. Large flat-rate box or “special version of this box” to APO/FPO and DPO destinations.

d. Large flat-rate box to domestic destinations.

The large flat-rate box to APO/FPO and DPO destinations or “special version of this box” is priced less than the conventional domestic large flat-rate box. Items sent to APO/FPO and DPO destination addresses may be shipped in the Priority Mail large flat-rate box or in a special version of the box identified with the additional logo: “Americasupportsyou.mil.” If the special version of the APO/FPO flat-rate box is used for non-APO/FPO and DPO destination addresses, the domestic or international large flat-rate box prices will apply. Only USPS-produced flat-rate boxes are eligible for the flat-rate box prices. Each USPS-produced Priority Mail flat-rate box is charged a flat rate regardless of the actual weight (up to 70 pounds) of the mailpiece or domestic destination. See Notice 123—Price List for applicable prices.

* * * * *

Stanley F. Mires,
Chief Counsel, Legislative.

[FR Doc. E9-26986 Filed 11-5-09; 4:15 pm]

BILLING CODE 7710-12-P